ENVIRONMENTAL PROTECTION AGENCY

[FRL-6950-5]

Agency Information Collection Activities: Submission for OMB Review; Comment Request, Non-road Compression-Ignition Engine and On-road Heavy Duty Engine Application for Emission Certification, and Participation in the Averaging, Banking, and Trading Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Non-road Compression-Ignition Engine and On-road Heavy Duty Engine Application for Emission Certification, and Participation in the Averaging, Banking, and Trading Program, OMB Control Number 2060-0287, expiration date February 28, 2001. The ICR describes the nature of the information collection and its expected burden and cost; where appropriate, it includes the actual data collection instrument.

DATES: Comments must be submitted on or before April 9, 2001.

ADDRESSES: Send comments, referencing EPA ICR No. 1684.05 and OMB Control No. 2060-0287, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1684.05. For technical questions about the ICR contact Nydia Yanira Reyes-Morales at 202-564-9264.

SUPPLEMENTARY INFORMATION: Title: Non-road Compression-Ignition Engine and On-road Heavy Duty Engine Application for Emission Certification, and Participation in the Averaging, Banking, and Trading Program, OMB Control Number 2060-0287, EPA ICR Number 1684.05, expiration date February 28, 2001. This is a request for extension of a currently approved collection.

Abstract: This ICR is combining two previously existing ICRs (number 1851.01 OMB Control No. 2060-0404, and 1684.04 OMB Control No. 2060-0287) into ICR number 1684.05. The ICRs are being combined to incorporate all certification and averaging, banking and trading collection activities in the non-road and on-highway sectors into one ICR. The Burden Hours for 1851.01 was 53,168 with a cost of $ 1,606,196 and for 1684.04 was 78,005 Burden Hours and a cost of $ 0 Capital, O&M. The consolidated 1684.05 has 70,300 Burden Hours and a cost of $1,477,900.

Under Title II of the Clean Air Act (42 U.S.C. 7521 et seq.; CAA), EPA is charged with issuing certificates of conformity for those engines that comply with applicable emission standards. Such a certificate must be issued before engines may be legally introduced into commerce. To apply for a certificate of conformity, manufacturers are required to submit descriptions of their planned production line, including detailed descriptions of the emission control system, and test data. This information is organized by “engine family” groups expected to have similar emission characteristics. There are also recordkeeping requirements.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on December 11, 2000; no comments were received.

Burden Statement: The annual public reporting and recordkeeping burden for this collection of information is estimated to average 10 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Non-Road Compression-Ignition Engine Mfgs.

Estimated Number of Respondents: 66.

Frequency of Response: Quarterly, Annually.

Estimated Total Annual Hour Burden: 98,548.

Estimated Total Annualized Capital, O&M Cost Burden: $1,477,000.

Send comments on the Agency's need for this information, the accuracy of the provided burden estimates, and any suggested methods for minimizing respondent burden, including through the use of automated collection techniques to the addresses listed above. Please refer to EPA ICR No. 1684.05 and OMB Control No. 2060-0287 in any correspondence.

Dated: February 27, 2001.
Oscar Morales,
Director, Collection Strategies Division.

[FR Doc. 01-5858 Filed 3-8-01; 8:45 am]

BILLING CODE 6560-50-U